DEPARTMENT OF STATE

[Public Notice 7450]

Bureau of Educational and Cultural Affairs (ECA) Request for Grant Proposals; Teacher Exchange Program

Announcement Type: New Cooperative Agreement.

Funding Opportunity Number: ECA/A/S/X-12-01.

Catalog of Federal Domestic Assistance Number: 19.408.

Key Dates: Application Deadline: June 23, 2011.

Executive Summary: The Office of Global Educational Programs of the Bureau of Educational and Cultural Affairs (ECA), U.S. Department of State, announces an open competition for three assistance awards to administer components of the Office's Teacher Exchange Program in Fiscal Year 2012. Public and private non-profit organizations or consortia or other combinations of eligible organizations meeting the provisions described in Internal Revenue Code section 501(c)(3) may submit proposals to cooperate with the Bureau in the administration of the teacher exchange programs as categorized below. To facilitate effective communication between ECA's Teacher Exchange Branch (ECA/A/S/X) and the organization(s) cooperating on these programs, applicant organizations should have offices and staffs located in Washington, DC at the time of application.

In recent years, the Bureau has revised and diversified its programming for teachers consistent with the Bureau's emphasis on reaching younger and underserved, non-elite populations, given the influence teachers can have on these populations in classrooms in the U.S. and around the world. This Request for Grant Proposals is part of an effort to reinforce the Bureau's engagement with primary and secondary school educators and to present a range of teacher program opportunities to potential applicant organizations, which may submit proposals to administer and implement one, two, or all three clusters of the following FY 2012 Teacher Exchange Programs as outlined below (organizations must submit a separate proposal for each cluster for which they apply): Cluster A: The Fulbright Classroom Teacher Exchanges and the Distinguished Fulbright Awards in Teaching; Cluster B: Professional Development Programs for International and U.S. Teachers; and/or Cluster C: the Educational Seminars, the Intensive Summer Language Institutes, and the Teachers of Critical Languages Program. Details about these program components are provided under the Funding Opportunity Description section of this document and in the Project Objectives, Goals, and Implementation (POGI) document associated with this solicitation. Proposals should reflect a vision for the program, interpreting the goals of the Fulbright-Hays Act and the Teacher Exchange Program with creativity, as well as providing innovative ideas and recommendations.

The cooperating organization(s) for each cluster will have responsibility for program administration, which includes the following broad categories: Program planning and management; participant placement; orientation and preparation of participants and host/mentor educators; enrichment activities; participant supervision and support services; fiscal management and budgeting; program reporting and evaluation (including ad hoc program and financial reports as requested by the Teacher Exchange Branch); and alumni programming and follow-on activities. Proposals should include schedules and timelines for notifying ECA, overseas partners, and participants of recruitment cycles, placements, travel arrangements and cross-cultural and program information in a timely manner. Programs must comply with J-1 visa regulations. Teacher exchange participants in the U.S. and abroad should be identified through open, merit-based competitions.

Although the amount that will be available to support these programs in FY 2012 has not yet been determined, for planning purposes the total amount of funding that may be available to cover administrative and program costs of these programs will be up to $14,800,000. The amounts listed for each program are provided below to enable applicant organizations to prepare budgets for planning purposes and are subject to change. More specific information for each program is provided below and in the Project Objectives, Goals, and Implementation (POGI) document. All awards are pending availability of FY 2012 funds.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The purpose of the program is to improve mutual understanding among teachers, school administrators, and their schools and communities in the U.S. and abroad through professional development and exchange. Teacher exchanges support the internationalization of schools and classrooms, increase the quality of classroom instruction, expand the knowledge of students and communities about global issues and cultures, and improve knowledge of English and foreign languages. Teacher exchanges also encourage the professional development of teachers by broadening their familiarity with approaches to their subjects, pedagogical methods, and instructional technologies.

Applicant organizations may propose to administer and implement one, two, or all three clusters of the following teacher exchange program components.

Cluster A

The Presidentially appointed J. William Fulbright Foreign Scholarship Board is responsible for the two program components in Cluster A, and has issued overall policy guidelines and selection criteria which are available at the following Web site: http://fulbright.state.gov/fsb/program-policies. The Fulbright Foreign Scholarship Board is responsible for the final selection of Fulbright candidates. Organizations cooperating with the Bureau must ensure full and proper identification of the Fulbright Program with the U.S. government and the Department of State.

1. Fulbright Classroom Teacher Exchange Program: Under this program component, a teacher from the U.S. and a teacher from a participating foreign country exchange teaching positions and professional duties for a semester or a year. Countries currently anticipated for participation are the Czech Republic, France, Hungary, India, Mexico, Switzerland, and the United Kingdom, although additional countries may be added or deleted, depending on Bureau priorities and the availability of funds. Applicant organizations must demonstrate flexibility and willingness to work with countries that may not be identified at the present time. In this program model, U.S. teachers apply to participate in the program through the cooperating organization; international counterparts apply through a Fulbright Commission or U.S. Embassy overseas, or other overseas partner organization. Recruitment of U.S. participants for the FY 2012 program (academic year 2012-2013) is being conducted with FY 2011 resources by the organization currently administering this program component. FY 2012 proposals should include the funding for the recruitment of participants for academic year 2013-2014. In consultation with the Bureau, the U.S. cooperating organization and the nominating entity overseas will facilitate the matching of U.S. and international teacher applicants with one another for the consideration of relevant supervising school administrators. The cooperating U.S. organization will provide an orientation program for all participants and will monitor and support their programs in consultation with overseas counterparts. In FY 2012, approximately 48 exchanges are anticipated for the 2012-2013 academic year, for an approximate total of 96 teachers. For planning purposes, the amount for program and administration is estimated at up to $2,500,000.

2. The Distinguished Fulbright Awards in Teaching: This program component recognizes and encourages excellence in teaching in the U.S. and selected countries abroad. Countries participating in the program in FY 2012 may include Argentina, Finland, India, Israel, Mexico, Morocco, Singapore, South Africa, and the United Kingdom, although countries may be added or deleted from the list depending on Bureau priorities and the availability of funds. Applicant organizations must demonstrate flexibility and the willingness to work with countries that may not be identified at the present time. These awards provide a rich professional growth opportunity to the Distinguished Fulbright Teachers while enhancing mutual understanding among international and U.S. teachers, administrators, their students, and host communities. Teachers from participating countries are nominated by a U.S. Embassy or Fulbright Commission to pursue projects in the U.S. during the fall semester, and U.S. teachers apply to the U.S. cooperating organization to pursue individual projects in the participating countries for a period of 3 to 6 months. The Distinguished Fulbright Teachers conduct research, take courses for professional development, and lead master classes or seminars for teachers and students in the host countries. Based on proposals submitted by U.S. teachers to conduct these activities in specific eligible countries, the U.S. Embassy, Fulbright Commission, or other organization as applicable in each participating country will facilitate a relevant academic or professional affiliation in consultation with each U.S. Distinguished Teacher. The U.S. cooperating organization should propose a U.S. university to provide the international Distinguished Teachers with broad-ranging access to faculty resources, schools, and other educational opportunities. For FY 2012, a program for approximately twenty international teachers in the fall of 2012 is anticipated; twenty U.S. teachers are anticipated to participate in the program for periods ranging from 3 to 6 months between August 2012 and August 2013. For planning purposes, the amount for program and administration is estimated at up to $1,900,000.

Cluster B

3. Professional Development Program for International Teachers: This program component brings international secondary school teachers from a wide range of countries and regions to U.S. universities for six weeks or a semester to develop teaching skills, to increase subject-matter expertise, and to pursue coursework and practical teaching experiences in American high schools. The six-week component for teachers is known as Teaching Excellence and Achievement and the semester-long component is known as International Leaders in Education. This solicitation consolidates their administration and anticipates additional possibilities for fluidity and synergy.

The international teachers gain an in-depth understanding of U.S. schools, universities, and culture, share information about their home countries with U.S. audiences, and prepare training workshops for colleagues after returning to their home countries. Participants are teachers of English, math, science and social studies although the majority of participants are teachers of English as a Foreign Language.

Fulbright Commissions and U.S. Embassies are responsible for recruiting applicants and nominating candidates. The cooperating U.S. organization will be responsible for reviewing applications for technical eligibility; and for convening independent committees to recommend candidates for approval by ECA (for the semester-long program only). This organization will also be responsible for identifying appropriate host universities through a national competition; organizing a three-day orientation session and a three-day end-of-program review in Washington, DC; and actively monitoring program implementation at host universities and schools.

International teachers in the U.S. for a semester audit two courses relevant to their teaching fields at U.S. graduate schools. Placed in cohorts of approximately 15-16 participants, the teachers help to internationalize courses, collaborate with U.S. professors of education and practicing U.S. teachers, attend professional development and technology seminars, workshops, and conferences on education-related and pedagogical topics designed especially for them, and teach or team-teach for ninety hours in U.S. secondary school classrooms in cooperation with experienced U.S. partner teachers.

The six-week model facilitates the participation of teachers who cannot participate in a longer program due to family or professional responsibilities. The program model is also attractive to some foreign ministries of education that cannot release teachers for longer periods.

Placed in cohorts of approximately 20-22 during the spring or fall semester, six-week program participants take part in intensive seminars and teach or job-shadow for forty hours in U.S. secondary schools under the guidance of experienced mentor teachers or administrators.

For FY 2012, approximately 75 teachers will come to the U.S. for a semester in the spring of 2013. Approximately 210 teachers are expected for six weeks in multi-national cohorts in the spring and fall of 2013. In addition, approximately 18-20 student teachers of English from Turkey are expected in a separate cohort in the summer of 2012 at a school of education at a U.S. university for a six-week program of academic seminars and practical teaching internships at U.S. high schools with partner teachers. For planning purposes, the amount for program and administration of this program is estimated at approximately $6,630,000.

4. Professional Development Program for U.S. teachers: Five cohorts of approximately ten U.S. teachers (for a total of 50 teachers) travel to approximately five countries for two weeks in the spring of 2013 or three weeks in the summer of 2013 to visit the home schools of selected international teacher alumni, to develop lesson plans on courses for use in U.S. classrooms, and to gain a deeper understanding of the educational systems and cultures of the host countries. To prepare for the visits, U.S. teachers also participate in online workshops, group meetings, and mentored preparation administered by the U.S. cooperating partner organization with the goal of maximizing the eventual integration of the participants' experience with U.S. classroom activities and curricula. For planning purposes, the amount available for program and administration is estimated at up to approximately $540,000.

Cluster C

5. Educational Seminars:

(a) Seminar on U.S. Education for International Educators: Teachers, administrators and other educators travel to the U.S. to learn about the U.S. educational system in a three-week seminar that includes work shadowing arrangements with U.S. partner educators in U.S. schools. Currently anticipated for participation in the seminar are Argentina, Brazil, and Uruguay; countries may be added or dropped, depending on Bureau priorities. Applicant organizations must demonstrate the flexibility and willingness to work in countries that may not be identified at the present time. These seminars provide an introduction to the U.S. educational system and to U.S. society and culture. Fulbright Commissions, U.S. Embassies, or other partner organizations in participating countries recruit and select international educators for the seminars; the U.S. cooperating organization is responsible for recruiting and selecting geographically and socially diverse U.S. candidates to host the international educators, for implementing a three-day orientation in Washington, DC, and for conducting an end-of-program review. Seminars will require translation and interpretation services as noted in the POGI. For FY 2012, approximately 45 international participants are anticipated for a seminar to be held in October, 2012. For planning purposes, the amount for program and administration is estimated at up to approximately $590,000.

(b) Seminars for U.S. Educators on International Education: U.S. educators from the host schools for the Seminar for International Educators on U.S. Education will travel in cohorts of six to twelve participants to the host countries for three weeks in summer 2013 to share best practices, engage in professional development, shadow their international colleagues, and work on collaborative projects with their international partners. Seminars are organized by the Fulbright Commission or the U.S. Embassy in the host country. The U.S. cooperating organization is responsible for organizing pre-departure orientations and coordinating travel arrangements. For FY 2012, approximately 24 U.S. participants are anticipated. For planning purposes, the amount for program and administration is estimated at up to approximately $380,000.

(c) Classics Seminars for U.S. Teachers: Approximately 16 U.S. secondary school teachers of Greek, Latin, or the Classics attend intensive courses lasting from six to eight weeks in the summer of 2012 and organized by the Fulbright Commissions and non-profit partner organizations in Greece and Italy. The Fulbright Commissions arrange orientation meetings for the participants upon their arrival in Greece and Italy. The U.S. cooperating organization is responsible for notifying participants of their selection, coordinating transportation arrangements, and providing participants with maintenance allowances. For planning purposes, the amount for program and administration is estimated at up to approximately $110,000.

(d) Approximately 10 U.S. teachers will travel to India for a four-week summer program with Indian teachers and students. The U.S. cooperating organization is responsible for administering an open competition to select the participants, and for administering their awards. The Fulbright Commission in India organizes the program in Indian schools for discussions, team-teaching, and observation of best practices with Indian counterpart teachers. For planning purposes, the amount for program and administration is estimated at up to approximately $110,000.

Recruitment of U.S. participants for the FY 2012 Educational Seminars is being undertaken by an incumbent organization with FY 2011 resources. Proposals for FY 2012 should support the costs of recruitment for the 2013 seminars.

6. Intensive Summer Language Institutes (ISLI): U.S. Kindergarten through grade 12 (K-12) teachers and community college instructors of Mandarin and Arabic study these languages intensively abroad. The U.S. cooperating organization is responsible for recruiting and selecting approximately 20 U.S. teachers; implementing a one-day orientation in Washington, DC; and overseeing an end-of-program review. The cooperating organization partners with academic institutions in the People's Republic of China and in an Arabic-speaking country to provide language instruction for academic credit under the supervision of a U.S. Resident Director, who also oversees in-country orientations at the institute sites, peer language tutors, home hospitality visits, cultural excursions, and curriculum projects. Language materials, shipping allowances, and follow-on grants are also features of this program. For planning purposes, the amount for program and administration of the summer language institutes is estimated at up to approximately $360,000.

7. Teachers of Critical Languages Program (TCLP): Approximately 16 teachers from China and 10 teachers from Egypt teach Chinese and Arabic in U.S. elementary and secondary schools for the 2012-13 academic year. The cooperating U.S. organization recruits U.S. host schools, oversees the placement of Chinese and Arabic teachers, provides a comprehensive two-week orientation session in the U.S. on relevant U.S. pedagogical, educational, and social issues, and monitors and supports the teachers and their engagement with the U.S. host schools. The cooperating organization is responsible for issuing a sub-award to a partner organization in each partner country to assist with recruitment and selection of teachers in China and Egypt. For planning purposes, the amount for program and administration is estimated at up to approximately $1,680,000.

Program Administration

In a Cooperative Agreement, ECA/A/S/X is substantially involved in program activities above and beyond routine monitoring. Bureau activities and responsibilities for all seven teacher exchange program components in all three clusters include:

(1) Participation in the design and direction of program activities;

(2) Approval of key personnel;

(3) Approval and input on program timelines, agendas and administrative procedures;

(4) Guidance in execution of all program components;

(5) Review and approval of all program publicity and recruitment materials;

(6) Approval of participating teachers and administrators, in cooperation with Fulbright commissions, U.S. embassies, and other partner organizations (Fulbright program candidates are also subject to selection by the J. William Fulbright Scholarship Board);

(7) Approval of decisions related to special circumstances or problems throughout the duration of the program;

(8) Assistance with non-immigration status and other SEVIS-related issues;

(9) Assistance with participant emergencies;

(10) Liaison with relevant U.S. embassies, Fulbright commissions and country desk officers at the State Department.

Programs must conform with Bureau requirements and guidelines outlined in the Solicitation Package which includes the Request for Grant Proposals (RFGP), the Project Objectives, Goals and Implementation (POGI) and the Proposal Submission Instructions (PSI).

Cooperating Agency Responsibilities

For all clusters, the cooperating agency or agencies is/are responsible for various aspects of outreach, recruitment, and screening of applicants; SEVIS duties and preparation of form DS-2019 under a G Program Number under the Bureau's responsibility on behalf of the Teacher Exchange Branch; orientation programs, professional in-service meetings, and debriefings; placement and, as required for the classroom teacher exchanges and some of the Educational Seminars, matching U.S. teachers with international counterparts; briefing and training/orientation of host U.S. educators and mentor teachers; monitoring, supervision, and support of participants; administering sub-award competitions as necessary; and fiscal management, evaluation, and follow-on and alumni activities for the program components described above. Please see the POGI for details pertaining to these activities for each program component. The Bureau's program office and the cooperating agency or agencies will meet regularly regarding program implementation. The Bureau's program office and the cooperating agency or agencies will also maintain regular telephone, email, and fax communications with each other.

Additional Guidelines

Applicant organizations should submit separate proposals with budgets and narratives outlining a comprehensive strategy for the administration and implementation of each cluster of program components for which they are applying: (Cluster A: Fulbright Classroom Teacher Exchanges/Distinguished Fulbright Awards in Teaching; Cluster B: Professional Development Program for International Teachers/Professional Development Program for U.S. Teachers; Cluster C: Educational Seminars/Intensive Summer Language Institutes/Teachers of Critical Languages Programs. Organizations may apply for more than one cluster of components: a separate proposal must be submitted for each program cluster. Organizations may not apply to administer program components except in the combinations prescribed for each cluster. Proposals should reflect a vision for the programs, interpreting the goals of the Fulbright-Hays Act and the Teacher Exchange Program with creativity, as well as providing innovative ideas and recommendations. The Bureau places a priority on ensuring that the positive impact of the Teacher Exchange Program is visible to the public in U.S. and host school communities. Applicant organizations should outline a plan to work with the media and other organizations, in close consultation with the Bureau, to ensure that the program and its awards and achievements receive appropriate publicity.

The narrative portion of the proposal for each cluster of program components should not exceed 20 pages. Proposals may utilize appendices to illustrate elements of the narrative.

Applicants must also provide a separate administrative and program budget for each program cluster. Organizations should submit a separate budget and narrative for each program within each cluster of programs for which they apply. Where possible, proposals should reflect economies of scale and should demonstrate administrative efficiencies.

Please refer to the Solicitation Package for further information.

II. Award Information

Type of Award: Cooperative Agreement(s). ECA's level of involvement in this program is listed under number I above.

Fiscal Year Funds: 2012.

Approximate Total Funding: $14,800,000 pending availability of funds.

Approximate Number of Awards: 3 awards.

Anticipated Award Date: Pending availability of funds, October 1, 2011.

Anticipated Project Completion Date: September 30, 2015.

Additional Information: Pending successful implementation of this program and the availability of funds in subsequent fiscal years, it is ECA's intent to renew the agreements for a period of two additional fiscal years, before openly competing the programs again.

III. Eligibility Information

III.1. Eligible Applicants

Applications may be submitted by public and private non-profit organizations or consortia of institutions meeting the provisions described in Internal Revenue Code section 26 U.S.C. 501(c)(3).

Consortia of eligible organizations applying for grants should designate one organization to be the recipient of the Cooperative Agreement award. Proposals from consortia should provide a detailed description of the responsibilities of each partner organization. Organizations with primary responsibility for any of the seven program components must have a staff based in Washington, DC, at the time of application.

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding three Cooperative Agreement awards in (an) amount(s) over $60,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information To Request an Application Package

Please contact Ms. Patricia Mosley in the Teacher Exchange Branch, ECA/A/S/X, SA-5, 4th floor, U.S. Department of State, 2200 C St., NW., Washington, DC 20037, telephone: (202) 632-6338 and fax number: (202) 632-9479, e-mail: mosleypj@state.gov, to request a Solicitation Package. Please refer to the Funding Opportunity Number ECA/A/S/X-12-01 located at the top of this announcement when making your request.

Alternatively, an electronic application package may be obtained from www.grants.gov. Please see section IV.3f. for further information.

The Solicitation Package contains the Proposal Submission Instruction (PSI) document which consists of required application forms and standard guidelines for proposal preparation.

It also contains the Project Objectives, Goals and Implementation (POGI) document, which provides specific information, award criteria and budget instructions tailored to this competition.

Please specify Michael Kuban and refer to the Funding Opportunity Number (ECA/A/S/X-12-01) located at the top of this announcement on all other inquiries and correspondence.

IV.2. To Download a Solicitation Package Via the Internet

The entire Solicitation Package may be downloaded from the Bureau's Web site at http://exchanges.state.gov/grants/open2.html or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or Cooperative Agreement from the U.S. Government. This number is a nine-digit identification number, which uniquely identifies business entities. Obtaining a DUNS number is easy and there is no charge. To obtain a DUNS number, access http://www.dunandbradstreet.com or call (1-866) 705-5711. Please ensure that your DUNS number is included in the appropriate box of the SF—424 which is part of the formal application package.

IV.3b. All proposals must contain one executive summary, one proposal narrative, and a separate budget for each program within the program cluster(s) for which the applicant applies. Applicant organizations may apply to administer cluster A, B or C; however, organizations must submit a separate proposal for each cluster for which they are applying. The proposal narrative for each program cluster should not exceed twenty (20) double-spaced pages in length.

Please Refer to the Solicitation Package. It contains the mandatory Proposal Submission Instructions (PSI) document and the Project Objectives, Goals and Implementation (POGI) document for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov website as part of ECA's FFATA reporting requirements.

If your organization is a private nonprofit which has not received a grant or Cooperative Agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Bureau of Educational and Cultural Affairs places critically important emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The Grantee will be responsible for issuing DS-2019 forms to participants in this program.

A copy of the complete regulations governing the administration of Exchange Visitor (J) programs is available at http://exchanges.state.gov or from:

Office of Designation, Private Sector Programs Division, U.S. Department of State, ECA/EC/D/PS, SA-5, 5th Floor, 2200 C Street, NW., Washington, DC 20037.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus cluster(s)). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements, etc.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification. It is anticipated that funding for the Cooperative Agreement awards for program administration of the three clusters of teacher exchange programs described here will be approximately $14,800,000.

IV.3e.2. Allowable costs and additional budget guidance are outlined in detail in the POGI document. Please refer to the Solicitation Package for complete budget guidelines and formatting instructions.

IV.3f. Application Deadline and Methods of Submission:

Application Deadline Date: June 23, 2011

Reference Number: ECA/A/S/X-12-01

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: Program Management Division, ECA-IIP/EX/PM, Ref.: ECA/A/S/X-12-01, SA-5, Floor 4, Department of State, 200 C Street, NW., Washington, DC 20037.

IV.3f.2. Submitting Electronic Applications

Applicants have the option of submitting proposals electronically through Grants.gov (http://www.grants.gov). Complete solicitation packages are available at Grants.gov in the “Find” portion of the system.

Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov website includes extensive information on all phases/aspects of the Grants.gov process, including an extensive section on frequently asked questions, located under the “For Applicants” section of the website. ECA strongly recommends that all potential applicants review thoroughly the Grants.gov website, well in advance of submitting a proposal through the Grants.gov system. ECA bears no responsibility for data errors resulting from transmission or conversion processes.

Direct all questions regarding Grants.gov registration and submission to: Grants.gov Customer Support, Contact Center Phone: (800) 518-4726, Business Hours: Monday-Friday, 7 a.m.-9 p.m. Eastern Time, Email: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov website, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for Cooperative Agreements resides with the Bureau's Grants Officer.

V.2. Review Criteria

Technically eligible applications will be competitively reviewed according to the criteria stated below. These criteria are not rank ordered and all carry equal weight in the proposal evaluation:

1. Quality of the program idea: Proposals should exhibit originality, substance, precision, and relevance to the Bureau's mission. Proposals should demonstrate a commitment to excellence and creativity in the implementation and management of this program in its various formats, including the recruitment, matching, and placement of U.S. and international teachers and administrators, quality of professional and pre-academic workshops, and effectiveness of program design.

2. Program planning: Proposals should respond precisely to the planning requirements outlined in the RFGP and POGI. Planning should demonstrate substantive rigor. Detailed agendas and relevant work plans, including timelines, should demonstrate feasibility and the applicant's logistical capacity to implement the programs.

3. Ability to achieve program objectives: Proposals should demonstrate clearly how the applicant will fulfill the programs' objectives and implement plans, while demonstrating innovation and a commitment to academic excellence and programmatic impact. Proposals should demonstrate a capacity for flexibility in the management of the programs.

4. Institutional Capacity: Proposed personnel and institutional resources should be adequate and appropriate to achieve program goals. Applicants should demonstrate established links to secondary schools and institutions of higher education in the U.S and knowledge of the overseas educational environment, particularly an awareness of conditions in societies and educational institutions outside the United States as they apply to academic exchange programs. Applicants should demonstrate prior experience or the capacity to negotiate significant cost savings for international teachers from American institutions. Applicants should also demonstrate their capacity to provide an information management/database system that meets program requirements, is compatible with the Bureau's systems, and provides for electronic applications, electronic data storage, and electronic payment of maintenance allowances. In its review of proposals, the Bureau will consider the past performance of prior recipients and the demonstrated potential of new applicants.

5. Support of Diversity: Proposals should demonstrate substantive support of the Bureau's policy on diversity. Achievable and relevant features should be cited in both program administration (recruitment and selection of participants, placements, and program evaluation) and program content (orientation programs, professional meetings, debriefings). Proposals should articulate a diversity plan, not just a statement of compliance.

6. Project Evaluation: Proposals should include a plan to evaluate the programs' success, both as the activities unfold and at the end of the programs. The Bureau recommends that proposals include a draft survey questionnaire or other instrument plus description of a methodology to use to link outcomes to original objectives.

7. Cost-effectiveness/Cost-sharing: The overhead and administrative components of the proposal, including salaries, should be kept as low as possible while adequate and appropriate to provide the required services. Proposals should document plans to realize innovative cost-sharing, cost-savings and other efficiencies through use of technology, administrative streamlining, and other management techniques. Private sector support as well as institutional direct funding contributions are encouraged.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A 122, “Cost Principles for Nonprofit Organizations.”

Office of Management and Budget Circular A-21, “Cost Principles for Educational Institutions.”

OMB Circular A-87, “Cost Principles for State, Local and Indian Governments”.

OMB Circular No. A 110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants; http://fa.statebuy.state.gov.

VI.3. Reporting Requirements

You must provide ECA with a hard copy original plus two copies of the following reports:

(1) An annual program report no more than 90 days after the end of each fiscal year for awards longer than one year;

(2) A final program and financial report no more than 90 days after the expiration of the award;

(3) A concise, one-page final program report summarizing program outcomes no more than 90 days after the expiration of the award. This one-page report will be transmitted to OMB, and be made available to the public via OMB's USAspending.gov Web site—as part of ECA's Federal Funding Accountability and Transparency Act (FFATA) reporting requirements.

(4) A SF-PPR, “Performance Progress Report” Cover Sheet with all program reports.

(5) Quarterly financial reports.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Mr. Michael Kuban, Teacher Exchange Branch, ECA/A/S/X-12-01, U.S. Department of State, SA-5, 4th floor, 2200 C Street, NW., Washington, DC 20037, phone: (202) 632-6346, fax: (202) 632-9479; e-mail: Kubanmm@state.gov.

All correspondence with the Bureau concerning this RFGP should reference the above title and number ECA/A/S/X-12-01.

Please read the complete announcement before sending inquiries or submitting proposals. All inquiries about the RFGP or any aspect of the Teacher Exchange Program should be submitted in writing via e-mail to Mr. Kuban. Any questions or requests for information from overseas Fulbright commissions or Public Affairs Sections of U.S. embassies should be submitted in writing via e-mail to Ms. Mosley for transmission to those overseas offices. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 3, 2011.
Ann Stock,
Assistant Secretary for Educational and Cultural Affairs, Department of State.

[FR Doc. 2011-11432 Filed 5-9-11; 8:45 am]

BILLING CODE 4710-05-P